DEPARTMENT OF TRANSPORTATION

Coast Guard

[USCG-1998-3553]

Marine Transportation System: Waterways, Ports, and Their Intermodal Connections

AGENCY: Coast Guard, DOT.

ACTION: Notice of meeting; request for comments.

SUMMARY: The Coast Guard, Maritime Administration, National Oceanic and Atmospheric Administration, U.S. Army Corp of Engineers, and the Environmental Protection Agency are hosting seven Regional Dialog Sessions (RDS) in port cities around the country to report on progress in addressing the MTS Report recommendations and to more actively engage local and regional stakeholders in MTS issues. This notice announces the dates and locations of the seven Regional Dialog Sessions. These dialog sessions are the second round of outreach in developing a customer-based strategy to ensure the marine transportation system meets user and public expectations for the 21st century.

DATES: The public meetings will be held on the following dates:

Chicago, IL, May 31 from 1 p.m. to 5 p.m. and continuing on June 1, 2000 from 8:30 a.m. to noon.

Memphis, TN, June 6, 2000 from 9 a.m. to 5 p.m.

Philadelphia, PA, June 12, 2000 from 9 a.m. to 5 p.m.

Jacksonville, FL, June 20 from noon to 4 p.m. and continuing on June 21, 2000 from 8 a.m. to noon.

Seattle, WA, June 27, 2000 from 9 a.m. to 5 p.m.

Los Angeles, CA, July 11, 2000 from 9 a.m. to 5 p.m.

Houston, TX, July 17 from 1 p.m. to 5 p.m. and continuing on July 18, 2000 from 8 a.m. to noon.

Comments must be received by the Docket Management Facility by August 18, 2000.

ADDRESSES: The public meetings will be held at the following locations:

Chicago, IL—Federal Aviation Administration Conference Center, 2300 E. Devon Avenue, Des Plaines, IL 60018.

Memphis, TN—Cargill Inc., 1877 Channel Avenue, President's Island, TN 38113.

Philadelphia, PA—U.S. Environmental Protection Agency Region 3 Auditorium, 1650 Arch Street, 4th Floor, Philadelphia, PA 19103.

Jacksonville, FL—Sea Turtle Inn, 1 Ocean Blvd., Atlantic Beach, FL 32233.

Seattle, WA—NOAA's Auditorium in Building 9, 7600 Sand Point Way, Seattle, WA 98115-6349.

Los Angeles, CA—Port Plaza, 100 W. 5th Street, San Pedro, CA 90731.

Houston, TX—JW Marriott-Galleria, 5150 Westheimer Road, Houston, TX 7056.

To make sure your written comments and related material are not entered more than once in the docket, please submit them by only one of the following means:

(1) By mail to the Docket Management Facility, (USCG-1998-3553), U.S. Department of Transportation, room PL-401, 400 Seventh Street SW., Washington, DC 20590-0001.

(2) By hand delivery to room PL-401 on the Plaza level of the Nassif Building, 400 Seventh Street SW., Washington, DC 20590-0001, between 9 a.m. and 5 p.m., Monday through Friday, except holidays. The telephone number is 202-366-9329.

(3) By fax to the Docket Management Facility at 202-493-2251.

(4) Electronically through the Web Site for the Docket Management System at http://dms.dot.gov.

The Docket Management Facility maintains the public docket for this notice. Comments will become part of this docket and will be available for inspection or copying at room PL-401, located on the Plaza Level of the Nassif Building at the above address between 9 a.m. and 5 p.m., Monday through Friday, except Federal holidays. You may electronically access the public docket for this notice on the Internet at http://dms.dot.gov.

FOR FURTHER INFORMATION CONTACT: For questions on the public docket, contact Dorothy Walker, Chief, Dockets, Department of Transportation, telephone 202-366-9329; for questions on this notice, contact LTJG Patrick Barelli, U.S. Coast Guard (G-MWP-1), telephone 202-267-2384.

SUPPLEMENTARY INFORMATION:

Request for Comments

We encourage interested persons to participate in this dialog by submitting written data, views, or other relevant documents. Persons submitting comments should include their names and addresses, identify this notice (USCG-1998-3553), and the reasons for each comment. Please submit all comments and attachments in an unbound format, no larger than 8½ x 11 inches, suitable for copying and electronic filing to the DOT Docket Management Facility at the address under ADDRESSES. If you want acknowledgment of receipt of your comments, enclose a stamped, self-addressed post card or envelope. We will consider all comments presented at the regional dialog sessions and submitted in writing to the docket during the comment period.

Background

The Marine Transportation System (MTS) includes waterways, ports, and their intermodal connections with highways, railways, and pipelines. The MTS links the United States to overseas markets and is important to national security interests. Excluding Mexico and Canada, over 95% of the U.S. foreign trade by tonnage is shipped by sea, and 14% of U.S. inter-city freight is transported by water. Forecasts show that U.S. foreign ocean-borne trade is expected to more than double by the year 2020; and commuter ferries, recreational boating, and other recreational uses of the waterway are expected to increase, placing even greater demands on the marine transportation system. In turn, an expanding marine transportation system will pose greater challenges for protecting and enhancing the environment.

Many federal agencies, state and local governments, port authorities, and the private sector share responsibility for the marine transportation system. Recognizing that the economic, safety, and environmental implications of aging infrastructure, inadequate channels, and congested intermodal connections will become more critical as marine traffic volume increases, the Secretary of Transportation began a multi-agency MTS initiative in March 1998.

The MTS initiative began in the spring of 1998 with seven Regional Listening Sessions to gather stakeholder input on the current state and future needs of the MTS. The input received at the listening sessions became the basis for a National MTS Conference in November of 1998. After the conference, the Secretary established the Congressionally mandated MTS Task Force to conduct an assessment of the U.S. Marine Transportation System. The September 1999 MTS Task Force Report to Congress, An Assessment of the Marine Transportation System, recommended action in seven strategic areas. The docket (USCG-1998-3553) contains the Report to Congress, summaries of the Regional Listening Sessions, and the Proceedings of the National MTS Conference. You may access it electronically on the Internet at http://dms.dot.gov. Implementation of the recommendations contained in Chapter 6 of the Report to Congress will be the focus of the Regional Dialog Sessions.

Format of Regional Dialog Sessions

The regional dialog sessions are open to the public and will consist of briefings and facilitated breakout sessions. Public attendees are welcome to participate in all sessions.

Information on Services for Individuals With Disabilities

For information on facilities or services for individuals with disabilities or to request special assistance at the meeting, contact the person under FOR FURTHER INFORMATION CONTACT as soon as possible.

Dated: April 25, 2000.
R.C. North,
Rear Admiral, U.S. Coast Guard, Assistant Commandant for Marine Safety and Environmental Protection.

[FR Doc. 00-10834 Filed 4-26-00; 4:50 pm]

BILLING CODE 4910-15-U